DEPARTMENT OF STATE

[Public Notice 10965]

Department of State Performance Review Board Members

In accordance with section 4314(c)(4) of 5 United States Code, the Department of State has appointed the following individuals to the Department of State Performance Review Board for Senior Executive Service members:

Douglas A. Pitkin, Chairperson, Director, Bureau of Budget and Planning, Department of State;

Ann K. Ganzer, Office Director, Bureau of International Security and Nonproliferation, Department of State;

Kathleen H. Hooke, Deputy Legal Adviser, Office of the Legal Adviser, Department of State;

Jeffrey C. Mounts, Deputy Comptroller, Comptroller, Global Financial Services, Department of State; and,

Gregory B. Smith, Director, Office of Civil Rights, Department of State;

Nilda R. Pedrosa, White House Liaison, Office of the White House Liaison, Department of State;

Carrie B. Cabelka, Assistant Secretary for Administration, Bureau of Administration, Department of State;

Roger D. Carstens, Deputy Assistant Secretary, Bureau of Democracy, Human Rights, and Labor, Department of State.

Carol Z. Perez,
Director General of the Foreign Service and Director of Human Resources, Department of State.

[FR Doc. 2019-27254 Filed 12-17-19; 8:45 am]

BILLING CODE 4710-05-P